FEDERAL EMERGENCY MANAGEMENT AGENCY

44 CFR Part 64

[Docket No. FEMA-7730]

List of Communities Eligible for the Sale of Flood Insurance

AGENCY: Federal Emergency Management Agency (FEMA).

ACTION: Final rule.

SUMMARY: This rule identifies communities participating in the National Flood Insurance Program (NFIP). These communities have applied to the program and have agreed to enact certain floodplain management measures. The communities' participation in the program authorizes the sale of flood insurance to owners of property located in the communities listed.

EFFECTIVE DATES: The dates listed in the third column of the table.

ADDRESSES: Flood insurance policies for property located in the communities listed can be obtained from any licensed property insurance agent or broker serving the eligible community, or from the NFIP at: Post Office Box 6464, Rockville, MD 20849, (800) 638-6620.

FOR FURTHER INFORMATION CONTACT: Donna M. Dannels, Branch Chief, Policy, Assessment and Outreach Division, Mitigation Directorate, 500 C Street SW., room 411, Washington, DC 20472, (202) 646-3098.

SUPPLEMENTARY INFORMATION: The NFIP enables property owners to purchase flood insurance which is generally not otherwise available. In return, communities agree to adopt and administer local floodplain management measures aimed at protecting lives and new construction from future flooding. Since the communities on the attached list have recently entered the NFIP, subsidized flood insurance is now available for property in the community.

In addition, the Associate Director of the Federal Emergency Management Agency has identified the special flood hazard areas in some of these communities by publishing a Flood Hazard Boundary Map (FHBM) or Flood Insurance Rate Map (FIRM). The date of the flood map, if one has been published, is indicated in the fourth column of the table. In the communities listed where a flood map has been published, Section 102 of the Flood Disaster Protection Act of 1973, as amended, 42 U.S.C. 4012(a), requires the purchase of flood insurance as a condition of Federal or federally related financial assistance for acquisition or construction of buildings in the special flood hazard areas shown on the map.

The Associate Director finds that the delayed effective dates would be contrary to the public interest. The Associate Director also finds that notice and public procedure under 5 U.S.C. 553(b) are impracticable and unnecessary.

National Environmental Policy Act. This rule is categorically excluded from the requirements of 44 CFR Part 10, Environmental Considerations. No environmental impact assessment has been prepared.

Regulatory Flexibility Act. The Associate Director certifies that this rule will not have a significant economic impact on a substantial number of small entities in accordance with the Regulatory Flexibility Act, 5 U.S.C. 601 et seq., because the rule creates no additional burden, but lists those communities eligible for the sale of flood insurance.

Regulatory Classification. This final rule is not a significant regulatory action under the criteria of section 3(f) of Executive Order 12866 of September 30, 1993, Regulatory Planning and Review, 58 FR 51735.

Paperwork Reduction Act. This rule does not involve any collection of information for purposes of the Paperwork Reduction Act, 44 U.S.C. 3501 et seq.

Executive Order 12612, Federalism. This rule involves no policies that have federalism implications under Executive Order 12612, Federalism, October 26, 1987, 3 CFR, 1987 Comp., p. 252.

Executive Order 12778, Civil Justice Reform. This rule meets the applicable standards of section 2(b)(2) of Executive Order 12778, October 25, 1991, 56 FR 55195, 3 CFR, 1991 Comp., p. 309.

List of Subjects in 44 CFR Part 64

Flood insurance, Floodplains.

Accordingly, 44 CFR part 64 is amended as follows:

PART 64—[AMENDED]

1. The authority citation for part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

2. The tables published under the authority of § 64.6 are amended as follows:

State/location | Community No. | Effective date of eligibility | Current effective map date
New Eligibles—Emergency Program:
Minnesota: Hill City, city of, Aitkin County | 270002 | January 21, 2000 | November 8, 1974.
Indiana: Westport, town of, Decatur County | 180517 | January 24, 2000.
Iowa: Ventura, City of, Cerro Gordo County | 190674 | ......do | November 5, 1976.
Illinois: Carrollton, city of, Greene County | 170250 | February 3, 2000 | March 5, 1976.
Illinois: Montgomery, county of, unincorporated areas | 170992 | ......do | January 9, 1981.
Maine: Fayette, town of, Kennebec County | 230237 | ......do | November 29, 1974.
Indiana: Waynetown, town of, Montgomery County | 180175 | February 9, 2000 | April 9, 1976.
Texas: Tolar, city of, Hood County | 480868 | February 15, 2000 | July 18, 1975.
North Carolina: Conetoe, town of, Edgcombe County | 370089 | ......do | January 9, 1974.
North Carolina: Newton Grove, town of, Sampson County | 370524 | ......do |
Kansas: Protection, city of, Comanche County | 200550 | February 24, 2000 | July 2, 1976.
North Carolina: Pittsboro, town of, Chatham County | 370420 | ......do | October 20, 1978.
New Eligibles—Regular Program:
Iowa: Cumming, city of, Warren County | 190946 | January 24, 2000 | November 20, 1998.
North Carolina: Angier, town of, Harnett County | 370522 | February 3, 2000 | April 16, 1990.
Washington: Beaux Arts Village, town of King County | 530242 | February 4, 2000 | May 16, 1995.
North Carolina: Gamewell, town of, Caldwell County | 370451 | February 15, 2000 | August 16, 1988.
Reinstatements:
Pennsylvania Elverson, borough of, Chester County | 422287 | February 13,—Emer | November 20, 1996.
|  | February 25, 1983—Reg. |
|  | November 20, 1996—Susp. |
|  | January 19, 2000—Rein. |
Virginia: Boykins, town of, Southampton County | 510151 | May 20, 1982—Emer | April 1, 1982.
|  | April 1, 1982—Reg. |
|  | April 1, 1982—Susp. |
|  | January 31, 2000—Rein. |
Suspensions:
Illinois: Hamilton, county of, unincorporated areas | 170910 | July 29, 1975—Emer | February 1, 1990—Reg.
|  | February 1, 1990—Reg. |
|  | January 17, 2000—Susp. |
Regular Program Conversions
Region I:
Massachusetts: Millbury, town of, Worchester County | 250318 | January 7, 2000—Suspension withdrawn | January 7, 2000.
Region III:
Pennsylvania:
Clarks Summit, borough of, Lackawanna County | 420527 | ......do | Do.
Kutztown, borough of, Berks County | 420136 | ......do | Do.
Maxatawny, township of, Berks County | 421381 | ......do | Do.
Region IV:
Tennessee: Decatur County, unincorporated areas | 470041 | ......do | Do.
Region III:
Virginia: Halifax, town of, Halifax County | 510301 | January 19, 2000—Suspension withdrawn | January 19, 2000.
Region VI:
Oklahoma:
Calumet, town of, Canadian County | 400268 | ......do | Do.
Canadian County, unincorporated areas | 400485 | ......do | Do.
El Reno, city of, Canadian County | 405377 | ......do | Do.
Mustang, city of, Canadian County | 400409 | ......do | Do.
Piedmont, city of, Canadian County | 400027 | ......do | Do.
Yukon, city of, Canadian County | 400028 | ......do | Do.
Texas:
Austin, city of, Travis County | 480624 | ......do | Do.
San Leanna, village of, Travis County | 481305 | ......do | Do.
Travis County, unincorporated areas | 481026 | ......do | Do.
Region VII:
Iowa:
Adel, city of, Dallas County | 190103 | ......do | Do.
Dallas County, unincorporated areas | 190860 | ......do | Do.
DeSoto, city of, Dallas County | 190359 | ......do | Do.
Granger, city of, Dallas County | 190104 | ......do | Do.
Perry, city of, Dallas County | 190105 | ......do | Do.
Redfield, city of, Dallas County | 190361 | ......do | Do.
Missouri:
Bull Creek, village of, Taney County | 290916 | ......do | Do.
Clark County, unincorporated areas | 290792 | ......do | Do.
Hollister, city of, Taney County | 290437 | ......do | Do.
Region VIII:
North Dakota:
Burlington, city of, Ward County | 380141 | ......do | Do.
Burlington, township of, Ward County | 380650 | ......do | Do.
Carpio, city of, Ward County | 380142 | ......do | Do.
Donnybrook, city of, Ward County | 380143 | ......do | Do.
Lebanon, township of, McHenry County | 380309 | ......do | Do.
McHenry County, unincorporated areas | 380307 | ......do | Do.
McKinney, township of, Renville County | 380311 | ......do | Do.
Minot, city of, Ward County | 385367 | ......do | Do.
Newport, township of, McHenry County | 380308 | ......do | Do.
Sawyer, city of, Ward County | 380145 | ......do | Do.
Velva, city of, McHenry County | 380051 | ......do | Do.
Velva, township of, McHenry County | 380310 | ......do | Do.
Villard, township of, McHenry County | 380317 | ......do | Do.
Willow Creek, township of, McHenry County | 380337 | ......do | Do.
Ward County, unincorporated areas | 385370 | ......do | Do.
Region IX:
California:
Napa, city of, Napa County | 060207 | ......do | Do.
Region X:
Oregon:
Aumsville, city of, Marion County | 410155 | ......do | Do.
Aurora, city of, Marion County | 410156 | ......do | Do.
Detroit, city of, Marion County | 140157 | ......do | Do.
Gates, city of, Marion County | 410159 | ......do | Do.
Gervais, city of, Marion County | 410160 | ......do | Do.
Hubbard, city of, Marion County | 410161 | ......do | Do.
Idanha, city of, Marion County | 410162 | ......do | Do.
Jefferson, city of, Marion County | 410163 | ......do | Do.
Keizer, city of, Marion County | 410288 | ......do | Do.
Marion County, unincorporated areas | 410154 | ......do | Do.
Mt. Angel, city of, Marion County | 410165 | ......do | Do.
Salem, city of, Marion County | 410167 | ......do | Do.
Scotts Mills, city of, Marion County | 410168 | ......do | Do.
Silverton, city of, Marion County | 410169 | ......do | Do.
St. Paul, city of, Marion County | 410166 | ......do | Do.
Stayton, city of, Marion County | 410170 | ......do | Do.
Turner, city of, Marion County | 410171 | ......do | Do.
Woodburn, city of, Marion County | 410172 | ......do | Do.
Code for reading third column: Emerg.—Emergency; Reg.—Regular; Rein.—Reinstatement; Susp.—Suspension; With.—Withdrawn; NSFHA—Non Special Flood Hazard Area.

(Catalog of Federal Domestic Assistance No. 83.100, “Flood Insurance.”)
Issued: March 27, 2000.
Michael J. Armstrong,
Associate Director for Mitigation.

[FR Doc. 00-9343 Filed 4-13-00; 8:45 am]

BILLING CODE 6718-05-P